DEPARTMENT OF COMMERCE

National Oceanic and Atmospheric Administration

50 CFR Part 648

[Docket No. 110816505-2184-03]

RIN 0648-XD336

Fisheries of the Northeastern United States; Northeast Multispecies Fisheries Management Plan; Northern Red Hake Quota Harvested

AGENCY: National Marine Fisheries Service (NMFS), National Oceanic and Atmospheric Administration (NOAA), Commerce.

ACTION: Temporary rule; possession limit reduction.

SUMMARY: Beginning August 5, 2014, the northern red hake possession limit is reduced to the incidental possession limit for the remainder of the 2014 fishing year.

DATES: Effective at 0001 hr local time, August 5, 2014, through 2400 hr local time April 30, 2015.

FOR FURTHER INFORMATION CONTACT: Jason Berthiaume, (978) 281-9177.

SUPPLEMENTARY INFORMATION: The regulations at § 648.86(d)(4)(i) require that, if the NMFS Greater Atlantic Region Administrator (Regional Administrator) projects that if the total allowable landings (TAL) trigger has been landed for a small-mesh multispecies stock, the Regional Administrator shall reduce the possession limit for that stock to the incidental possession limit for the remainder of the fishing year. The incidental possession limit for northern red hake is 400 lb (181.44 kg).

The 2014 fishing year northern red hake TAL is 199,077 lb (90,300 kg) and the TAL trigger is 45 percent, which is 89,585 lb (40,635.07 kg). Based on dealer, vessel trip report, and other available information, NMFS has projected that, as of August 5, 2014, 45 percent of the available 2014 TAL for northern red hake have been landed. Therefore, effective 0001 hr, August 5, 2014, the possession limit for northern red hake is reduced to the incidental possession limit of 400 lb (181.44 kg). This incidental possession limit will be in effect through the remainder of the fishing year, which ends April 30, 2015.

Vessels that have declared a trip through the vessel monitoring system (VMS) or interactive voice response system, and crossed the VMS demarcation line, prior to August 5, 2014, are not be subject to the incidental limit for that trip, and, may complete the trip under the previous higher possession limit of 5,000 lb (2,268 kg).

Classification

This action is required by 50 CFR part 648 and is exempt from review under Executive Order 12866.

NMFS finds good cause pursuant to 5 U.S.C. 553(b)(B) to waive prior notice and the opportunity for public comment because it would be contrary to the public interest and impracticable. This action reduces the northern red hake possession limit to the incidental level of 400 lb. The regulations at § 648.86(d)(4)(i) require that, if the NMFS projects that if the TAL trigger has been landed for a small-mesh multispecies stock, NMFS must reduce the possession limit for that stock to the incidental possession limit for the remainder of the fishing year. The whiting fishery opened for the 2014 fishing year on May 1, 2014. Data indicating that 45 percent of the northern red hake TAL is projected to be reached only recently became available. If implementation of this closure is delayed to solicit prior public comment, northern red hake landings limits for this fishing year will likely be exceeded, thereby undermining the conservation objectives of the FMP. NMFS further finds, pursuant to 5 U.S.C. 553(d)(3), good cause to waive the 30-day delayed effectiveness period for the reasons stated above.

Authority: 16 U.S.C. 1801 et seq.

Dated: July 25, 2014.
Emily H. Menashes,
Acting Director, Office of Sustainable Fisheries, National Marine Fisheries Service.

[FR Doc. 2014-17999 Filed 7-29-14; 8:45 am]

BILLING CODE 3510-22-P